SMALL BUSINESS ADMINISTRATION

[License No. 08/08-0175]

Surrender of License of Small Business Investment Company; Pelion Ventures V Financial Institutions Fund, L.P.

Pursuant to the authority granted to the United States Small Business Administration under Section 309 of the Small Business Investment Act of 1958, as amended, and 13 CFR 107.1900 of the Code of Federal Regulations to function as a small business investment company under the Small Business Investment Company license number 08/08-0175 issued to Pelion Ventures V Financial Institutions Fund, L.P., said license is hereby declared null and void.

Paul Salgado,
Director, Investment Portfolio Management, Office of Investment and Innovation, United States Small Business Administration.

[FR Doc. 2026-01050 Filed 1-20-26; 8:45 am]

BILLING CODE P